DEPARTMENT OF TRANSPORTATION

Federal Highway Administration

Environmental Impact Statement: Westmoreland County, PA

AGENCY: Federal Highway Administration (FHWA), DOT.

ACTION: Cancellation of the Notice of Intent.

SUMMARY: This notice rescinds the previous Notice of Intent (issued January 29, 1993) to prepare an Environmental Impact Statement for a proposed highway project consisting of the construction of a new two-lane roadway (to be identified as T.R. 711) between the southern terminus of U.S. Route 30 and the northern terminus, which is a point approximately one mile north of Ligonier on S.R. 711 in Ligonier Township. The proposed project is approximately 2.0 miles in length.

FOR FURTHER INFORMATION CONTACT: David W. Cough, P.E., Director of Operations, Federal Highway Administration, Pennsylvania Division Office, 228 Walnut Street, Room 508, Harrisburg, PA 17101-1720, Telephone (717) 221-3411—OR—Alan Bailey, P.E., Assistant District Executive, Pennsylvania Department of Transportation, District 12-0, P.O. Box 459 North Gallatin Avenue Extension, Uniontown, PA 15401, Telephone (724) 439-7259.

SUPPLEMENTARY INFORMATION: The need to address traffic conflicts within the Ligonier central business district still exists and the Pennsylvania Department of Transportation, District 12-0, intends to continue to address traffic compatibility with the community through a series of transportation system management implementation strategies. These strategies include, but are not limited to, advanced warning signs, speed limit enforcement, and pavement markings. Furthermore, PennDOT District 12-0 has already completed a signing and pavement marking project in the Ligonier Diamond area to improve pedestrian safety and facilitate truck and automobile traffic movements. PennDOT will also recommend a Pedestrian Safety Program and will provide information to the borough on how to apply for a Safer Routes to School project.

(Catalog of Federal Domestic Assistance Program Number 20.205, Highway Planning and Construction. The regulations implementing Executive Order 12372 regarding intergovernmental consultation on Federal programs and activities apply to this program.)

Dated: February 8, 2008.
David C. Lawton,
Acting Division Administrator, Harrisburg, PA.

[FR Doc. 08-716 Filed 2-19-08; 8:45 am]

BILLING CODE 4910-22-M